DEPARTMENT OF AGRICULTURE

Forest Service

Plumas County Resource Advisory Committee (RAC); Meetings

AGENCY: Forest Service, USDA.

ACTION: Notice of meetings.

SUMMARY: The Plumas County Resource Advisory Committee (RAC) will hold meetings/work sessions on March 15 & 20, in Quincy, California, and another in Portola, CA on April 12. The purpose of the March 15 meeting is to design concept paper review and project evaluation/selection processes. The purpose of the March 20 work session is to answer questions from members of the community interested in submitting projects for funding consideration under the Title 2 provisions of the Secure Rural Schools and Community Self-Determination Act of 2000. The purpose of the April 12 meeting is to review proposed project concept papers and generate comments for project proponents' use.

DATES AND ADDRESSES: The March 15 meeting will take place from 9-3 p.m., in the Mineral Building at the Plumas-Sierra County Fairgrounds, 204 Fairgrounds Road, Quincy, California. The March 20 work session will take place from 7-9 p.m., at the Catholic Church Annex, 176 Lawrence Street, Quincy, CA. The April 12 meeting will take place from 9-3 p.m., at the Williams House, 424 East Sierra Ave (Highway 70), Portola, CA.

FOR FURTHER INFORMATION CONTACT: Lee Anne Schramel Taylor, Forest Coordinator, USDA, Plumas National Forest, P.O. Box 11500/159 Lawrence Street, Quincy, CA 95971; (530) 283-7850; or by E-MAIL eataylor@fs.fed.us.

SUPPLEMENTARY INFORMATION: Agenda items for the March 15 meeting include: (1) Review applicable sections of the Secure Rural Schools and Community Self-Determination Act of 2000, regarding project solicitation and approval; and (2) Continue project solicitation/design and selection process; and, (3) Future meeting schedule/logistics/agenda. The meeting is open to the public and individuals may address the Committee at any time, after being recognized by the Chair. The March 20 work session is open to the public. Agenda items for the April 12 meeting include: (1) Review concepts papers and generate comments for project proponents' use; (2) Public Comment; and, (3) Future meetings schedule/logistics/agenda. The meeting is open to the public and individuals may address the Committee in the time provided on the agenda.

Dated: March 8, 2002.
Mark J. Madrid,
Forest Supervisor.

[FR Doc. 02-6220 Filed 3-14-02; 8:45 am]

BILLING CODE 3410-11-M